CORPORATION FOR NATIONAL AND COMMUNITY SERVICE

Agency Information Collection Activities; Submission to the Office of Management and Budget for Review and Approval; Comment Request; Application Package for: Current Population Survey Civic Engagement and Volunteering Supplement

AGENCY: The Corporation for National and Community Service.

ACTION: Notice of information collection; request for comment.

SUMMARY: In accordance with the Paperwork Reduction Act of 1995, the Corporation for National and Community Service (operating as AmeriCorps) is proposing to renew an information collection.

DATES: Written comments must be submitted to the individual and office listed in the ADDRESSES section by May 30, 2023.

ADDRESSES: You may submit comments, identified by the title of the information collection activity, by any of the following methods:

(1) By mail sent to: AmeriCorps, Attention Andrea Robles, 250 E Street SW, Washington, DC 20525.

(2) By hand delivery or by courier to the AmeriCorps mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Andrea Robles, Ph.D., 202-510-6292, or by email at arobles@cns.gov.

SUPPLEMENTARY INFORMATION:

Title of Collection: Current Population Survey Civic Engagement and Volunteering Supplement.

OMB Control Number: 3045-0139. Type of Review: Renewal.

Respondents/Affected Public: Individuals and Households.

Total Estimated Number of Annual Responses: 60,000.

Total Estimated Number of Annual Burden Hours: 6,670.

Abstract: AmeriCorps is mandated by the Serve America Act of 2009 to produce an annual Civic Health Assessment in partnership with the National Conference on Citizenship. Volunteering and Civic Life reports, tables and data are made public on the AmeriCorps VCLA website and specialized tables are made available upon request.

The proposed survey will be the only source of nationally representative data on the number of Americans who are active in their communities through volunteering, social interactions, and civic behaviors. These measures include formal volunteering in an organization; a person's interactions with family, friends and neighbors; participation in community events; informal interactions; communication with one another on issues of public concern; and interactions with public and private institutions.

AmeriCorps has partnered with the US Census and the Bureau of Labor Statistics to collect data and produced annual volunteering reports since 2002. Currently, AmeriCorps is soliciting comments concerning its proposed renewal of the Current Population Survey Volunteering and Civic Engagement Supplement. AmeriCorps is directed by Congress to collect data and produce reports on the Nation's civic health and volunteering activity (Authority: 42 U.S.C. 12639(a); 13 U.S.C. 8(b); 29 U.S.C. 1). AmeriCorps also seeks to continue using the currently approved information collection until the revised information collection is approved by OMB. The currently approved information collection is due to expire on 11/20/2023.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Mary Hyde,
Director, Office of Research and Evaluation.

[FR Doc. 2023-06588 Filed 3-29-23; 8:45 am]

BILLING CODE 6050-28-P